DEPARTMENT OF ENERGY

Federal Energy Regulatory Commission

Combined Notice of Filings #1

Take notice that the Commission received the following electric rate filings:

Docket Numbers: ER11-3417-002; ER10-2895-005; ER11-2292-004; ER11-3942-003; ER11-2293-004; ER10-2917-005; ER11-2294-004; ER12-2447-002; ER10-2918-006; ER12-199-005; ER10-2920-005; ER11-3941-003; ER10-2921-005; ER10-2922-005; ER10-3048-003; ER10-2966-005.

Applicants: Alta Wind VIII, LLC, Bear Swamp Power Company LLC, Brookfield Energy Marketing Inc., Brookfield Energy Marketing LP, Brookfield Power Piney & Deep Creek LLC, Brookfield Energy Marketing US LLC, Brookfield Renewable Energy Marketing US, LLC, Carr Street Generating Station, L.P., Coram California Development, L.P., Great Lakes Hydro America, LLC, Hawks Nest Hydro LLC, Longview Fibre Paper and Packaging, Inc., Rumford Falls Hydro LLC, Brookfield Smoky Mountain Hydropower LLC, Erie Boulevard Hydropower, L.P., Granite Reliable Power, LLC.

Description: Notice of Change in Status of the Brookfield Companies.

Filed Date: 12/14/2012.

Accession Number: 20121214-5231.

Comment Date: 5:00 p.m. Eastern Time on Friday, January 4, 2013.

Docket Numbers: ER13-562-000.

Applicants: New England Power Company.

Description: New England Power Company submits Notice of Cancellation of FERC Rate Schedule No. 427 with the Vermont Electric Power Company, Inc.

Filed Date: 12/14/2012.

Accession Number: 20121214-5232.

Comment Date: 5:00 p.m. Eastern Time on Friday, January 4, 2013.

Take notice that the Commission received the following qualifying facility filings:

Docket Numbers: QF13-155-000.

Applicants: Archer-Daniels-Midland Company.

Description: Archer-Daniels-Midland Company [Columbus] submits FERC Form 556—Notice of Self-Certification of Qualifying Cogeneration Facility Status.

Filed Date: 12/14/12.

Accession Number: 20121214-5226.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2012.
Nathaniel J. Davis, Sr.,
Deputy Secretary.

[FR Doc. 2012-30919 Filed 12-21-12; 8:45 am]

BILLING CODE 6717-01-P